DEPARTMENT OF JUSTICE

Notice of Lodging of Proposed Consent Decree Under the Comprehensive Environmental Response, Compensation, and Liability Act

On November 21, 2012, the Department of Justice lodged a proposed Consent Decree with the United States District Court for the District of Massachusetts, Eastern Division, in the lawsuit entitled United States v. Brown Shoe Company, Inc. and Brown Group Retail, Inc. Civil Action No. 1:12-cv-12177-NMG.

The Consent Decree resolves the United States' claims for reimbursement of response costs against Brown Shoe Company, Inc., and Brown Group Retail, Inc. associated with the Whitman Cistern Site in Whitman, Massachusetts pursuant to section 107(a) of the Comprehensive Environmental Response, Compensation, and Liability Act, as amended, 42 U.S.C. 9607(a) (“CERCLA”). Brown Shoe Company, Inc., and Brown Group Retail, Inc. agree to pay $450,000 of the United States' response costs. In return, the United States agrees not to sue the defendants for past response costs under section 107 of CERCLA.

The publication of this notice opens a period for public comment on the Consent Decree. Comments should be addressed to the Assistant Attorney General, Environment and Natural Resources Division, and should refer to United States v. Brown Shoe Company Inc. and Brown Group Retail, Inc. D.J. Ref. No. 90-11-3-09664. All comments must be submitted no later than thirty (30) days after the publication date of this notice. Comments may be submitted by either email or mail:

To submit comments: | Send them to:
By email | pubcomment-ees.enrd@usdoj.gov
By mail | Assistant Attorney General, U.S. DOJ—ENRD, P.O. Box 7611, Washington, DC 20044-7611.

During the public comment period, the Consent Decree may be examined and downloaded for free at the following Department of Justice Web site: http://www.usdoj.gov/enrd/Consent_Decrees.html. We will provide a paper copy of the Consent Decree upon written request and payment of reproduction costs. Please mail your request and payment to: Consent Decree Library, P.O. Box 7611, U.S. Department of Justice, Washington, DC 20044-7611.

Please enclose a check or money order for $4.50 (25 cents per page reproduction cost) payable to the United States Treasury.

Ronald Gluck,
Assistant Section Chief, Environmental Enforcement Section, Environment and Natural Resources Division.

[FR Doc. 2012-28777 Filed 11-27-12; 8:45 am]

BILLING CODE 4410-15-P